ENVIRONMENTAL PROTECTION AGENCY

[FRL-10008-37-OMS]

Privacy Act of 1974; System of Records

AGENCY: Office of Mission Support, Environmental Protection Agency (EPA).

ACTION: Notice of a modified system of records.

SUMMARY: Pursuant to the provisions of the Privacy Act of 1974, the Office of Inspector General (OIG) is giving notice that it proposes to modify the point of contact, retention and disposal, system manager and address, notification procedures, and the inclusion of the new general routine uses identified per OMB M-17-12 of an existing system of records, Inspector General Enterprise Management System (IGEMS) Hotline Module (EPA-30).

DATES: Persons wishing to comment on this system of records notice must do so by May 20, 2020. New or Modified routine uses for this modified system of records will be effective May 20, 2020.

ADDRESSES: Submit your comments, identified by Docket ID No. EPA-HQ-OEI-2011-0349, by one of the following methods:

Regulations.gov: www.regulations.gov Follow the online instructions for submitting comments.

Email: oei.docket@epa.gov.

Fax: 202-566-1752.

Mail: OMS Docket, Environmental Protection Agency, Mailcode: 2822T, 1200 Pennsylvania Ave. NW, Washington, DC 20460.

Hand Delivery: OMS Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2011-0349. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OMS Docket is (202) 566-1752.

FOR FURTHER INFORMATION CONTACT: Stephanie Wright, Assistant Inspector General for Management, 202-566-0847.

SUPPLEMENTARY INFORMATION:

I. General Information

The EPA OIG is giving notice that it intends to modify an existing system of records. The Inspector General Enterprise Management System (IGEMS) Hotline Module is modifying its point of contact, retention and disposal, system manager and address, and notification procedure. This system facilitates OIG responsibilities under Section 7 of the Inspector General Act, that is to receive and investigate complaints of information concerning the possible existence of activities constituting a violation of law, rules, or regulations, mismanagement, gross waste of funds, abuse of authority or a substantial and specific danger to the public health or safety, and the subject of the complaints. The privacy of individuals is protected through user authentication and system roles, permissions and privileges. The system is operated and maintained by the Office of Inspector General, Office of Management, Information Technology Directorate (OM-ITD).

SYSTEM NAME and NUMBER:

Inspector General Enterprise Management System (IGEMS) Hotline Module. EPA-30

SECURITY CLASSIFICATION:

Unclassified.

SYSTEM LOCATION:

Office of Inspector General, Environmental Protection Agency, 1200 Pennsylvania Avenue NW, Washington, DC 20460.

SYSTEM MANAGER(S):

USEPA, Office of Management (Mail code 2410T), 1200 Pennsylvania Ave. NW, Washington, DC 20460, Attn: Assistant Inspector General for Management. Tel Number: 202-566-0847, Fax: 202-566-0857.

AUTHORITY for MAINTENANCE of the SYSTEM:

Inspector General Act of 1978, 5 U.S.C. app. 3.

PURPOSE(S) OF THE SYSTEM:

Facilitates OIG's responsibilities under Section 7 of the Inspector General Act, that is to receive and investigate complaints of information concerning the possible existence of activities constituting a violation of law, rules or regulations, mismanagement, gross waste of funds, abuse of authority or a substantial and specific danger to the public health or safety, and the subject of the complaints.

CATEGORIES OF INDIVIDUALS COVERED BY THE SYSTEM:

Persons who report information to the Office of Inspector General (OIG) concerning the possible existence of activities constituting a violation of law, rules or regulations, mismanagement, gross waste of funds, abuse of authority, or a substantial and specific danger to the public health or safety; the subject of the complaints; persons about whom complaints are made; and possible witnesses identified.

CATEGORIES OF RECORDS IN THE SYSTEM:

Complainants who report indications of wrongdoing, name and address of the complainant (except for anonymous complainants), date complaint received, program area, nature and subject of complaint, any additional contacts and specific comments provided by the complainant, information on the OIG disposition of the complaint, including investigative case number, preliminary inquiry number, dates of referral, reply and follow-up, status and disposition code of the complaint.

RECORD SOURCE CATEGORIES:

Complainants who are employees of EPA; employees of other Federal agencies; employees of state and local agencies; and private citizens. Records in the system come from complainants through the telephone, mail, personal interviews, web forms, and email. Complainants are advised that if they provide contact information, this information may be used to initiate follow-up communications with the complainant and may be shared by EPA with appropriate administrative, law enforcement, and judicial entities engaged in investigating or adjudicating the tip or complaint.

ROUTINE USES of RECORDS MAINTAINED IN the SYSTEM, INCLUDING CATEGORIES of USERS and PURPOSES of SUCH USES:

The following new routine uses apply to this system because the use of the record is necessary for the efficient conduct of government operations. The routine uses are related to and compatible with the original purpose for which the information was collected.

General routine uses A, B, C, D, E, F, G, H, I, J, and K apply to this system (73 FR 2245). Records may also be disclosed:

• To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

• To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

• To a Federal agency responsible for considering suspension or debarment action where such record would be relevant to such action.

• To the Department of Justice to obtain its advice on Freedom of Information Act matters.

• In response to a lawful subpoena issued by a Federal agency.

POLICIES and PRACTICES for STORAGE of RECORDS:

In accordance with OIG Records Management Policy, computer records are maintained in a secure, password protected computer system. Paper records are maintained in lockable file cabinets. All records are maintained in secure, access-controlled areas or buildings.

POLICIES and PRACTICES for RETRIEVAL of RECORDS:

By case number, complainant or subject name, and subject matter.

POLICIES and PRACTICES for RETENTION and DISPOSAL of RECORDS:

Records stored in this system are subject to EPA Records Schedule 1016, which covers records related to operations and programs of the EPA and its external business partners that ensure compliance with applicable laws and regulations and prevent waste, fraud, and abuse.

ADMINISTRATIVE, TECHNICAL, and PHYSICAL SAFEGUARDS:

Computer records are maintained in a secure, password protected computer system. Paper records are maintained in lockable file cabinets. All records are maintained in secure, access-controlled areas or buildings. The IGEMS Hotline module is restricted to the Hotline Administrator and the Hotline module users. It is one of the modules found in IGEMS. IGEMS is accessible to EPA OIG employees only. It is an internal database accessible by use of strong passwords, which are renewed on a regular basis and controls to lock the screen after a set time are enforced.

RECORD ACCESS PROCEDURES:

To the extent permitted under the Privacy Act of 1974, 5 U.S.C. 552a(k)(2), this system has been exempted from the provisions of the Privacy Act of 1974 that permit access and correction. However, EPA may, in its discretion, fully grant individual requests for access and correction if it determines that the exercise of these rights will not interfere with an interest that the exemption is intended to protect. The exemption from access is limited in some instances by law to information that would reveal the identity of a confidential source. Requesters will be required to provide adequate identification, such as a driver's license, employee identification card, or other identifying document. Additional identification procedures may be required in some instances.

CONTESTING RECORD PROCEDURES:

Requests for correction or amendment must identify the record to be changed and the corrective action sought. Complete EPA Privacy Act procedures are set out in 40 CFR part 16.

NOTIFICATION PROCEDURE:

Requests to determine whether this system of records contains a record pertaining to you must be sent to the Agency's Privacy Officer. The address is: U.S. Environmental Protection Agency, 1200 Pennsylvania Avenue NW (2831T), Washington, DC 20460; (202) 566-1668; Email: (privacy@epa.gov).

EXEMPTIONS PROMULGATED FOR THE SYSTEM:

Pursuant to 5 U.S.C. 552a(k)(2), this system is exempt from the following provisions of the Privacy Act of 1974, subject to the limitations set forth in that subsection: 5 U.S.C. 552a (c)(3); (d); (e)(1); (e)(4)(G); (e)(4)(H); and (f)(2) through (5).

HISTORY:

76 FR 42707—Changing the name of the system from the Office of Inspector General (OIG) Hotline Allegation System (EPA-30) to the Inspector General Enterprise Management System (IGEMS) Hotline Module.

40 CFR part 16—

Exempt the OIG Hotline Allegation System—EPA/OIG (EPA-30) system of records from compliance with certain subsections of the Act. This amendment is made to maintain the efficiency and integrity of OIG investigations, audits, or referrals that result from complaints concerning the possible existence of activities constituting a violation of law, rules, or regulations, mismanagement, gross waste of funds, abuse of authority, or a substantial and specific danger to the public health or safety.

57 FR 36092—Established OIG Hotline Allegation System—EPA/OIG and is maintained by the EPA Office of Inspector General (OIG).

Dated: April 15, 2020.
Vaughn Noga,
Senior Agency Official for Privacy.

[FR Doc. 2020-08288 Filed 4-17-20; 8:45 am]

BILLING CODE 6560-50-P